DEPARTMENT OF COMMERCE

National Oceanic and Atmospheric Administration

50 CFR Part 679

[Docket No. 121029593-3999-02]

RIN 0648-BC73

Fisheries of the Exclusive Economic Zone Off Alaska; Bering Sea and Aleutian Islands Management Area; Amendment 99

AGENCY: National Marine Fisheries Service (NMFS), National Oceanic and Atmospheric Administration (NOAA), Commerce.

ACTION: Final rule.

SUMMARY: NMFS publishes regulations to implement Amendment 99 to the Fishery Management Plan for Groundfish of the Bering Sea and Aleutian Islands Management Area (BSAI FMP). Amendment 99 enables the holders of license limitation program (LLP) licenses authorizing a designated vessel to catch and process Pacific cod in the BSAI hook-and-line fisheries to use newly built or existing vessels that are not eligible under current vessel length and capacity restrictions. This action is necessary to promote safety-at-sea by encouraging the replacement of older vessels with newer and more efficient vessels that are able to meet modern vessel safety standards. This action is intended to facilitate the increased retention and utilization of groundfish by allowing sector participants to use larger vessels with increased processing and hold capabilities. This action is intended to promote the goals and objectives of the BSAI FMP, the Magnuson-Stevens Fishery Conservation and Management Act (Magnuson-Stevens Act), and other applicable laws.

DATES: Effective February 6, 2014.

ADDRESSES: Electronic copies of the Regulatory Impact Review (RIR) and the Categorical Exclusion prepared for this action may be obtained from http://www.regulations.gov or from the NMFS Alaska Region Web site at http://alaskafisheries.noaa.gov.

Written comments regarding the burden-hour estimates or other aspects of the collection of information requirements contained in this final rule may be submitted by mail to NMFS, Alaska Region, P.O. Box 21668, Juneau, AK 99802-1668, Attn: Ellen Sebastian, Records Officer; in person at NMFS, Alaska Region, 709 West 9th Street, Room 420A, Juneau, AK; or by email to OIRA_submission@omb.eop.gov or fax to (202) 395-7285.

FOR FURTHER INFORMATION CONTACT: Seanbob Kelly, 907-586-7228.

SUPPLEMENTARY INFORMATION:

Regulatory Authority

NMFS establishes regulations to implement Amendment 99 to the BSAI FMP. NMFS manages the U.S. groundfish fisheries of the Exclusive Economic Zone (EEZ) off Alaska under the Fishery Management Plan for Groundfish of the Gulf of Alaska (GOA FMP) and the BSAI FMP. The North Pacific Fishery Management Council (Council) prepared the GOA FMP and BSAI FMP pursuant to the Magnuson-Stevens Act and other applicable laws. Regulations implementing the GOA FMP and BSAI FMP appear at 50 CFR part 679. General regulations that pertain to U.S. fisheries appear at subpart H of 50 CFR part 600.

Background

NMFS published the Notice of Availability for Amendment 99 in the Federal Register on September 30, 2013 (78 FR 59908), with a 60-day comment period that ended November 29, 2013. NMFS published a proposed rule for Amendment 99 in the Federal Register on October 25, 2013 (78 FR 63951). The 30-day comment period on the proposed rule ended November 25, 2013. NMFS received a total of three comment letters from the same person during the comment periods on Amendment 99 and the proposed rule. The letters contained one substantive comment. A summary of this comment and NMFS' response is provided in the Comments and Responses section of this preamble.

A detailed review of the provisions of Amendment 99, the proposed regulations, and the rationale for these regulations is provided in the preamble to the proposed rule (78 FR 63951, October 25, 2013) and is not repeated here. The proposed rule is available from the NMFS Alaska Region Web site (see ADDRESSES). The preamble to this final rule provides a brief review of the regulatory changes made by this final rule.

Amendment 99 amends the BSAI FMP and this final rule revises Federal regulations to: (1) Increase the maximum length overall (MLOA) to 220 feet (67 m) on an LLP license that authorizes a vessel to catch and process Pacific cod with hook-and-line gear in the BSAI; (2) allow a holder of an LLP license authorized to catch and process Pacific cod with both hook-and-line and pot gear in the BSAI to increase the MLOA on the LLP license to 220 feet (67 m) only if the pot gear endorsement is surrendered within a specific time frame; and (3) allow a vessel that catches and processes Pacific cod with hook-and-line gear in the BSAI to exceed length, tonnage, and power limits established under the American Fisheries Act (AFA). The following sections provide background on the need for, the objectives of, and the provisions of Amendment 99 and this final rule.

Under the LLP, which was implemented by NMFS on January 1, 2000 (63 FR 52642, October 1, 1998), an LLP license is required for most vessels directed fishing for groundfish in the BSAI and GOA. Directed fishing is defined in regulations at § 679.2. For a vessel designated on an LLP license, the LLP license authorizes the type of fishing gear that may be used by the vessel, the maximum size of the vessel, and whether the vessel may catch and process fish at sea or if it is limited to delivering catch without at-sea processing. LLP licenses that allow vessels to catch and process at-sea are assigned a catcher/processor (C/P) endorsement. LLP licenses specify the MLOA of the vessel to which that LLP license may be assigned. Regulations implementing the LLP prohibit participants in LLP groundfish fisheries from using a vessel to fish for LLP groundfish that has a length overall that is greater than the MLOA specified on the LLP license (see § 679.7(i)(6)).

The LLP also includes a species endorsement for Pacific cod in the BSAI and GOA. A vessel can directed fish for Pacific cod in the BSAI or GOA only if the vessel is designated on an LLP license that has this specific endorsement. The LLP Pacific cod endorsement requirement has, in effect, limited the number of vessels that are eligible to fish for Pacific cod in the BSAI and GOA. Specific to this final rule, vessels currently used to directed fish for Pacific cod in the BSAI using hook-and-line gear and to process that catch at sea must be assigned an LLP license with a BSAI Pacific cod hook-and-line C/P endorsement. Public Law 108-447, 118 Stat. 2887, Dec. 8, 2004, at section 219(a)(6), defines the term “longline catcher processor subsector” as “the holders of an LLP license that is noninterim and transferable, or that is interim and subsequently becomes noninterim and transferable, and that is endorsed for Bering Sea or Aleutian Islands catcher processor fishing activity, C/P, Pcod [Pacific cod], hook and line gear.” There are 36 LLP licenses that meet the eligibility criteria for the BSAI longline C/P subsector.

Currently, each of the 36 LLP licenses eligible for the BSAI longline C/P subsector have an MLOA equal to or less than 220 feet (67 m). Increasing the MLOA on the LLP licenses in the BSAI longline C/P subsector to 220 feet (67 m) will not constrain any existing LLP licenses in terms of vessel length. Additional detail on the LLP licenses currently eligible for the BSAI longline C/P subsector can be found in the preamble to the proposed rule (78 FR 63951, October 25, 2013) and section 1.5.1 of the RIR for this action (see ADDRESSES).

Under this final rule, NMFS will increase the MLOA on LLP licenses in the BSAI longline C/P subsector that are not also endorsed for pot gear to 220 feet (67 m). NMFS and the Council have determined that a 220-foot (67 m) MLOA for these eligible LLP licenses will encourage LLP license holders in the BSAI longline C/P subsector to replace aging vessels with newer, safer, and more efficient vessels. NMFS determined that a 220-foot (67 m) MLOA provides adequate incentives to meet the objectives of the action. It will promote the sustainable harvest of groundfish, especially Pacific cod in the BSAI and GOA, by removing disincentives for owners of vessels to rebuild or replace their vessels with larger vessels. It will promote efficient utilization of the Pacific cod resource in the BSAI and GOA. The action will also promote safety-at-sea by allowing vessel owners to replace existing vessels with vessels that can accommodate improved safety features and minimize the risks faced by crew members.

The 220-foot (67 m) MLOA is intended to allow vessel owners to replace vessels with new vessels that could accommodate improved efficiency and safety design. Additional detail on the rationale for the 220-foot (67 m) MLOA limit is provided in the preamble to the proposed rule (78 FR 63951, October 25, 2013) and section 1.6.2.2 of the RIR prepared for this action (see ADDRESSES).

NMFS is also implementing regulations that are intended to protect historical participants in the Pacific cod pot fisheries that could be adversely affected by the use of larger, more efficient vessels in the BSAI longline C/P subsector. NMFS recognizes that three of the 36 LLP licenses endorsed for participation in the BSAI longline C/P subsector also authorize the designated vessel to target Pacific cod with C/Ps using pot gear in the BSAI: two of those LLP licenses authorize participation in the BSAI Pacific cod fisheries with C/Ps using pot gear; one of the LLP licenses authorizes participation in the BSAI and Western GOA Pacific cod fisheries with C/Ps using pot gear. Under the final rule, NMFS will authorize a person holding an LLP license endorsed to catch and process Pacific cod with hook-and-line and pot gear in the BSAI to increase the MLOA on the LLP license to 220 feet (67 m) only if the LLP license holder elects to surrender any Pacific cod pot gear endorsements within a specific time frame.

Regulations implemented by this final rule are intended to prevent adverse competitive effects of increased fishing capacity by the BSAI longline C/P subsector relative to the C/Ps using pot gear in both the BSAI and the GOA. Under this final rule, the holders of the two BSAI longline C/P subsector LLP licenses with BSAI Pacific cod pot gear C/P endorsements can either surrender the BSAI Pacific cod pot gear C/P endorsements and receive an LLP license with a 220-foot (67 m) MLOA or retain their current MLOA and continue to participate in both fisheries. Similarly, the holder of the BSAI longline C/P subsector LLP license with BSAI and Western GOA Pacific cod pot gear C/P endorsements can either surrender the BSAI and GOA Pacific cod pot gear C/P endorsements and receive an LLP license with a 220-foot (67 m) MLOA or retain the BSAI Pacific cod pot gear C/P endorsements and the current LLP license MLOA will continue to apply.

This final rule will limit holders of LLP licenses with Pacific cod pot gear C/P endorsements from naming larger vessels on those LLP licenses that could increase vessel capacity in the pot gear C/P fisheries and could disadvantage historical participants in the sector who would continue to be constrained by the MLOAs specified on their LLP licenses. Without this limitation, these participants could harvest a greater proportion of the GOA Pacific cod sector allocation relative to their historical catch. This could negatively impact historical participants in the Pacific cod pot fisheries and would not promote a fair and equitable standard for all participants in the pot gear C/P fisheries.

This final rule establishes regulations to ensure that holders of LLP licenses eligible for the BSAI longline C/P subsector that choose to retain Pacific cod pot gear C/P endorsements will continue to be restricted by the current MLOAs on the LLP licenses. This final rule establishes a time limit on the one-time permanent election for these LLP license holders that would close 36 months from the date of implementation of this action. The deadline for making the one-time election is intended to promote the conservation and management of the BSAI and GOA Pacific cod fisheries by clearly identifying pot gear C/P sector participants within a reasonable time frame and by establishing an upper limit on vessel capacity in the BSAI longline C/P subsector.

Regulatory Amendments

This final rule lists the groundfish LLP licenses that are modified by this action at Table 9 to part 679. Table 9 to part 679 will list in Column A the 36 LLP licenses endorsed to participate in the BSAI longline C/P subsector. Table 9 indicates which LLP licenses are eligible for an increase in MLOA to 220 feet (67 m), as designated in Column B, and the LLP license holders that are eligible for a one-time election to permanently surrender and extinguish certain LLP license endorsements in exchange for an increase in the MLOA to 220 feet (67 m), as designated in Column C.

This final rule modifies the regulatory definition of “Maximum LOA (MLOA)” at § 679.2 and establishes regulatory provisions at § 679.4(k)(3)(i)(D) for a new MLOA category. Under this provision, NMFS will revise MLOAs on the LLP licenses designated in Column B of Table 9 to part 679. The NMFS Restricted Access Management Division will issue new LLP licenses with an MLOA of 220 feet (67 m) to the holders of the eligible licenses designated in Column B of Table 9 to part 679. The new LLP licenses will be mailed to the address provided to NMFS by the holder of the qualifying LLP license. NMFS has revised the definition of “Maximum LOA (MLOA)” at § 679.2 to ensure that all LLP licenses designated in Column B of Table 9 to part 679 are revised on the effective date of this final rule.

This final rule implements regulations at § 679.4(k)(3)(i)(D)(2) to ensure that the MLOA on an LLP license endorsed for participation in the BSAI longline C/P subsector is not revised if the LLP license holder retains an endorsement to participate in Pacific cod pot fisheries in the BSAI or GOA. Under this final rule, NMFS will establish a process for eligible LLP license holders to surrender a Pacific cod pot gear endorsement on LLP licenses also endorsed to participate in the BSAI longline C/P subsector. Regulations implemented by this final rule will assign an MLOA of 220 feet (67 m) to any of the three LLP licenses listed in Column C of Table 9 to part 679 whose holders surrender the Pacific cod pot gear endorsements on their LLP license. This final rule provides a one-time election to permanently surrender the Pacific cod pot gear endorsements on an LLP license, and NMFS will extinguish the surrendered Pacific cod pot gear endorsements. NMFS will not transfer the endorsements to another person, and the endorsements cannot be used in other areas, with other gears, or for other operational types.

This final rule includes provisions at § 679.4(k)(6)(xi) that describe the requirements for holders of LLP licenses eligible to participate in the BSAI longline C/P subsector to surrender their Pacific cod pot gear C/P endorsements. NMFS will notify in writing the three LLP license holders listed in Column C of Table 9 to part 679 of their option to elect to surrender their Pacific cod pot gear C/P endorsements on their LLP license and receive a 220-foot (67 m) MLOA. Owners of eligible licenses, or their agents, will need to notify NMFS in writing at the address specified at § 679.4(k)(6)(xi) that they elect to surrender the endorsements. The request will need to include a signed statement notifying NMFS that the holder of the LLP license acknowledges that the election is permanent and irreversible and that all pot gear Pacific cod endorsements on that LLP will be extinguished. Each LLP license holder has 36 months from February 6, 2014, to notify NMFS in writing of the one-time permanent election. If the written notification is received by NMFS within the 36 months prior to the deadline, NMFS will issue a revised LLP license to the holder of that LLP license. LLP license holders who choose not to make the one-time election or who do not submit a written notification within the 36-month deadline will retain their current MLOA and continue to be eligible to participate in both the Pacific cod pot fisheries and longline fisheries in the BSAI and GOA.

American Fisheries Act and United States Maritime Administration

In order for a vessel to participate in a U.S. fishery, a vessel must obtain a certificate of documentation with a fishery endorsement from either the U.S. Coast Guard or the Maritime Administration (MARAD), as set forth in regulations at 46 U.S.C. 12102(a) and 12151(b). The AFA of 1998, as amended, Title II, Division C, Public Law 105-277, was enacted to increase U.S. citizen participation in U.S. fisheries. The AFA required the Maritime Administration to ensure compliance with the U.S. citizenship ownership and control requirements for U.S.-flag fishing industry vessels of 100 feet or greater in registered length. Therefore, a vessel 100 feet or greater in registered length must receive this documentation from MARAD.

The AFA and MARAD implementing regulations prohibit larger vessels from obtaining a fishery endorsement unless specific conditions are met. Unless an exemption applies, a vessel is not eligible for a fishery endorsement if it is greater than 165 feet in length overall, has more than 750 gross registered tons, or has engines capable of producing more than 3,000 shaft horsepower.

These regulations were intended to limit, but not reduce, fishing capacity in the BSAI; however, the regulations effectively limit the ability of vessel owners to replace vessels currently participating in the BSAI longline C/P subsector with newer vessels of an equivalent size. There are currently nine vessels named on LLP licenses eligible to participate within the BSAI longline C/P subsector that exceed at least one of the thresholds described at 46 CFR 356.47(a) and (c). These vessels are able to participate in the fishery because they received a fishery endorsement prior to September 25, 1997; however, the license holders could not replace vessels named on their LLP licenses with vessels of comparable or additional capacity and continue to participate in the BSAI longline C/P subsector because such vessels would not be eligible for a fishery endorsement.

An exemption from these regulations is possible if the owner of such a vessel demonstrates to MARAD that the regional fishery management council of jurisdiction, established under section 302(a)(1) of the Magnuson-Stevens Act, has recommended after October 21, 1998, and the Secretary has approved, conservation and management measures in accordance with regulations implementing the AFA at 46 CFR 356.47, to allow vessels that may exceed the length, horsepower, and tonnage requirements to be used in fisheries under such council's authority. NMFS and MARAD General Counsel consulted to determine what action on the part of the Council and NMFS would satisfy this exemption. NMFS and MARAD General Counsel determined, based on the regulatory requirements established at 46 CFR 356.47(c), that the Council would need to recommend, and the Secretary would need to approve, conservation and management measures that would allow such a vessel to be used in the BSAI longline C/P subsector fisheries. The statutory vessel capacity restrictions are described in more detail in section 1.2.2 of the RIR for this action (See ADDRESSES).

The Secretary approved Amendment 99 on December 19, 2013, and has issued this final rule to implement Amendment 99; therefore, the Secretary has approved conservation and management measures that permit a vessel to exceed the limits specified at 46 U.S.C. 12113(d) in order to participate in the BSAI longline C/P subsector. Secretarial approval of Amendment 99 and the publication of implementing regulations are intended to provide MARAD with documentation that eligible vessels qualify to receive a fishery endorsement. Following the implementation of this final rule on February 6, 2014, NMFS will notify MARAD that any vessel named on an LLP license endorsed for participation in the BSAI longline C/P subsector, which is greater than 165 feet in registered length, of more than 750 gross registered tons, or that has an engine or engines capable of producing a total of more than 3,000 shaft horsepower, is authorized for use in the EEZ under the jurisdiction of the Council, and is eligible to receive a certificate of documentation consistent with 46 U.S.C. 12113(d) and MARAD regulations at 46 CFR 356.47.

Recordkeeping, Reporting, Monitoring and Enforcement

This final rule does not change existing recordkeeping, monitoring and enforcement requirements for participants in the BSAI C/P longline subsector. This action will add a reporting requirement for the LLP licenses identified in Column C to Table 9 to part 679. The holders of these three LLP licenses would need to notify NMFS of their election to permanently surrender all Pacific cod pot gear endorsements in exchange for a 220-foot (67 m) MLOA on an LLP, as described in more detail in the Collection-of-Information Requirements section of this preamble.

Changes From the Proposed Rule

No changes were made between the proposed and final regulations. However, NMFS acknowledges one error on page 63954 in the preamble to the proposed rule (78 FR 63951, October 25, 2013). The first column, first paragraph incorrectly states that the MLOA on an LLP license would increase to 200 feet, and not 220 feet. The sentence should read as follows: “Under Amendment 99, the MLOA specified on LLP licenses in the BSAI longline C/P subsector that are not also endorsed for pot gear would be increased to 220 feet (67 m).”

Comments and Responses

During the public comment period on the Notice of Availability for Amendment 99 and the proposed rule to implement Amendment 99, NMFS received three comments, only one of which was substantive. The same member of the public submitted all three comments. All of the comments expressed a general dislike of fishery management policies that are outside the scope of this action. One comment expressed general discontent with this action and is included below with NMFS' response. No changes were made to this final rule in response to the comment letters received. NMFS' response to the one substantive public comment on Amendment 99 and the proposed rule to implement Amendment 99 is presented below.

Comment: Older vessels should not be replaced with newer, larger, and more efficient vessels because these larger vessels will increase catch to unsustainable levels.

Response: NMFS analyzed whether this action would increase catch of groundfish in Section 1.6.2 of the RIR. Section 1.6.2 of the RIR indicates that NMFS expects that this action will not increase the catch of groundfish by vessels in the BSAI longline C/P subsector in the BSAI or GOA. The preamble to the proposed rule (78 FR 63951, October 25, 2013) notes that management constraints, such as Pacific cod species endorsements on LLP licenses in the BSAI and GOA (see 67 FR 18129, April 15, 2002 for the BSAI; and 76 FR 15826, March 22, 2011 for the GOA), sector allocations for Pacific cod in the BSAI and GOA (see 72 FR 50788, September 4, 2007 for the BSAI; and 76 FR 74670, December 1, 2011 for the GOA), and halibut prohibited species catch limits in the BSAI and GOA (see 78 FR 13813, March 1, 2013 for the BSAI; and 78 FR 13162, February 26, 2013 for the GOA), limit the ability of vessels in the BSAI longline C/P subsector to expand their overall fishing operations in groundfish fisheries.

The preamble to the proposed rule notes that the potential for expanded participation in the Pacific cod pot fishery is constrained by the limitations on LLP licenses with Pacific cod hook-and-line and pot C/P endorsements that are implemented under this final rule (78 FR 63951, October 25, 2013). These provisions are described in the Background and Regulatory Amendments sections of this preamble. Additional information describing the management measures that limit the ability of all vessels, including new vessels, to increase catch in the BSAI longline C/P subsector in the BSAI and GOA are found in Section 1.6.2 of the RIR prepared for this action (See ADDRESSES).

Classification

The NMFS Assistant Administrator determined that Amendment 99 to the BSAI FMP is necessary for the conservation and management of the BSAI groundfish fishery and that it is consistent with the BSAI and GOA FMPs, the Magnuson-Stevens Act, and other applicable laws.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

Collection-of-Information Requirements

This final rule contains a collection-of-information requirement subject to the Paperwork Reduction Act (PRA) and which has been approved by the Office of Management and Budget (OMB) under control number 0648-0334. Public reporting burden per response is estimated to be 2 hours for One-time Election to Permanently Surrender Pacific Cod Pot Gear Endorsement for the BSAI and GOA in Exchange for Receiving an LLP with an MLOA of 220 feet Authorizing Participation in the BSAI Pacific cod Longline C/P fisheries. Public reporting burden includes the time for reviewing instructions, searching existing data sources, gathering and maintaining the data needed, and completing and reviewing the collection of information.

Send comments regarding this burden estimate, or any other aspect of this data collection, including suggestions for reducing the burden, to NMFS (see ADDRESSES) and by email to OIRA_Submission@omb.eop.gov, or fax to (202) 395-7285.

Notwithstanding any other provision of the law, no person is required to respond to, nor shall any person be subject to a penalty for failure to comply with, a collection of information subject to the requirements of the PRA, unless that collection of information displays a currently valid OMB control number.

List of Subjects in 50 CFR Part 679

Alaska, Fisheries, Reporting and recordkeeping requirements.

Dated: December 31, 2013.
Alan D. Risenhoover,
Director, Office of Sustainable Fisheries, performing the functions and duties of the Deputy Assistant Administrator for Regulatory Programs, National Marine Fisheries Service.

For the reasons set out in the preamble, NMFS amends 50 CFR part 679 as follows:

PART 679— FISHERIES OF THE EXCLUSIVE ECONOMIC ZONE OFF ALASKA

1. The authority citation for 50 CFR part 679 continues to read as follows:

Authority: 16 U.S.C. 773 et seq.; 1801 et seq.; 3631 et seq.; Pub. L. 108-447.

2. In § 679.2, add paragraph (2)(v) to the definition of “Maximum LOA (MLOA)” to read as follows:

§ 679.2 Definitions.

* * * * *

Maximum LOA (MLOA) means:

(2) * * *

(v) The MLOA of a groundfish LLP license endorsed to catch and process Pacific cod with hook-and-line gear in the BS or AI, or both, and is designated in Column B of Table 9 to this part is 220 feet (67 m).

* * * * *

3. In § 679.4, add paragraphs (k)(3)(i)(D) and (k)(6)(xi) to read as follows:

§ 679.4 Permits.

* * * * *

(k) * * *

(3) * * *

(i) * * *

(D) Modification of the MLOA on a groundfish LLP license listed in column A of Table 9 to this part. (1) Each groundfish LLP license endorsed to catch and process Pacific cod with hook-and-line gear in the BS or AI, or both, and designated in column B of Table 9 to this part will receive a 220-foot (67 m) MLOA following February 6, 2014.

(2) Each groundfish LLP license endorsed to catch and process Pacific cod with hook-and-line gear in the BS or AI, or both, and designated in column C of Table 9 to this part is eligible to be assigned a 220-foot (67 m) MLOA if the LLP holder submits a timely written request to remove all pot gear Pacific cod endorsements on that LLP following the process established under paragraph (k)(6)(xi) of this section.

* * * * *

(6) * * *

(xi) Surrender and extinguishment of a groundfish LLP endorsement. Endorsements specified on a groundfish LLP license are not severable from a license and cannot be surrendered except that pot gear Pacific cod endorsements specified on groundfish LLP licenses listed in Column C of Table 9 to this part, can be permanently surrendered, removed, and extinguished if:

(A) The holder of the groundfish LLP license listed in Column C of Table 9 to this part requests, in writing, that NMFS permanently remove and extinguish all pot gear Pacific cod endorsements specified on that LLP license and acknowledges in that written request that the surrender and removal are permanent and irreversible and that all pot gear Pacific cod endorsements on that LLP license are extinguished;

(B) The holder of the groundfish LLP license listed in Column C of Table 9 to this part requests, in writing, that NMFS assign a 220-foot (67 m) MLOA on that LLP license;

(C) The holder of the eligible LLP license, or the authorized agent, signs the request;

(D) NMFS receives the written request to permanently remove and extinguish all pot gear Pacific cod endorsements specified on the LLP groundfish license by February 6, 2017; and

(E) The written request is submitted to NMFS using one of the following methods:

(1) Mail: Regional Administrator, c/o Restricted Access Management Program, NMFS, P.O. Box 21668, Juneau, AK 99802-1668;

(2) Fax: 907-586-7354; or

(3) Hand delivery or carrier: NMFS, Room 713, 709 West 9th Street, Juneau, AK 99801.

* * * * *

4. Table 9 to part 679 is added to read as follows:

Table 9 to Part 679—Groundfish LLP Licenses Eligible for Use in the BSAI Longline Catcher/Processor Subsector, Column A. X Indicates Whether Column B or Column C Applies.
Column A: The Holder of Groundfish License Number . . . | Column B: Is eligible under 50 CFR 679.4(k)(3)(i)(D)(1) to be assigned a 220-foot (67 m) MLOA on that LLP license | Column C: Is eligible to request that NMFS permanently assign a 220-foot (67 m) MLOA on that LLP License under 50 CFR 679.4(k)(3)(i)(D)(2)
LLG 4508 | X |
LLG 1785 | X |
LLG 3681 | X |
LLG 3676 | X |
LLG 3609 | X |
LLG 1400 | X |
LLG 1401 | X |
LLG 3617 | X |
LLG 1916 | X |
LLG 1917 | X |
LLG 1989 | X |
LLG 1127 | X |
LLG 1128 | X |
LLG 1125 | X |
LLG 4823 | X |
LLG 2783 | X |
LLG 1988 | X |
LLG 2238 | X |
LLG 2958 | X |
LLG 3973 | X |
LLG 3637 | X |
LLG 2421 | X |
LLG 1713 | X |
LLG 3616 | X |
LLG 2892 | X |
LLG 2112 | X |
LLG 5222 | X |
LLG 1578 | X |
LLG 2026 | X |
LLG 3847 | X |
LLG 3602 | X |
LLG 2081 | X |
LLG 4008 | X |
LLG 3090 |  | X
LLG 1576 |  | X
LLG 2959 |  | X

[FR Doc. 2013-31556 Filed 1-3-14; 8:45 am]

BILLING CODE 3510-22-P